DEPARTMENT OF THE INTERIOR

National Park Service

[NPS-WASO-NAGPRA-NPS0035946; PPWOCRADN0-PCU00RP14.R50000]

Notice of Inventory Completion: U.S. Department of the Interior, National Park Service, San Juan Island National Historical Park, Friday Harbor, WA

AGENCY: National Park Service, Interior.

ACTION: Notice.

SUMMARY: In accordance with the Native American Graves Protection and Repatriation Act (NAGPRA), the U.S. Department of the Interior, National Park Service (NPS), San Juan Island National Historical Park (SAJH) has completed an inventory of human remains and has determined that there is a cultural affiliation between the human remains and Indian Tribes or Native Hawaiian organizations in this notice. The human remains were removed from San Juan County, WA.

DATES: Repatriation of the human remains in this notice may occur on or after July 3, 2023.

ADDRESSES: Elexis Fredy, Superintendent, San Juan Island National Historical Park, 650 Mullis Street, Suite 100, Friday Harbor, WA 98250, telephone (360) 378-2240, email Ext. 2223, email elexis_fredy@nps.gov.

SUPPLEMENTARY INFORMATION: This notice is published as part of the National Park Service's administrative responsibilities under NAGPRA. The determinations in this notice are the sole responsibility of the Superintendent, SAJH. Additional information on the determinations in this notice, including the results of consultation, can be found in the inventory or related records held by SAJH.

Description

In 1951, human remains representing, at minimum, three individuals were removed from the Garrison Bay Site within English Camp in San Juan County, WA, by the University of Washington during archeological field school excavations under the direction of Carroll Burroughs. The individuals were originally transferred to the Burke Museum, University of Washington and later transferred to the Seattle Jesuit Catholic University in 1974. In 1990 or 1991, the Seattle Jesuit Catholic University transferred the individuals to the Confederated Tribes of the Colville Reservation. On an unknown date, the Confederated Tribes of the Colville Reservation determined that the individuals were not affiliated with the Colville, and transferred physical custody to Eastern Washington University (EWU). In May 2022, the Burke Museum contacted SAJH about the individuals held at EWU and in August 2022, SAJH contacted EWU. They remain in the physical custody of EWU. No known individuals were identified. No associated funerary objects are present.

In 1970, 1971, and 1972, human remains representing, at minimum, nine individuals were removed from English Camp in San Juan County, WA, during joint archeological field school excavations by the University of Idaho and the University of Washington under direction of Dr. Roderick Sprague and Stephen Kenady. In 2007, two of these individuals were identified in the University of Idaho's collections. On August 9, 2007, the University of Idaho transferred the two individuals to the NPS, Pacific West Region. On October 15, 2019, they were transported to the Washington Department of Archaeology and Historic Preservation for osteological examination. The other seven individuals were identified in the University of Idaho's teaching collections in 2015. On May 4, 2021, the University of Idaho transferred physical custody to the NPS. On the same day, NPS officials temporarily loaned these individuals to the Lummi Tribe of the Lummi Reservation to house the individuals at their curation facility. No known individuals were identified. No associated funerary objects are present.

Cultural Affiliation

The human remains in this notice are connected to one or more identifiable earlier groups, tribes, peoples, or cultures. There is a relationship of shared group identity between the identifiable earlier groups, tribes, peoples, or cultures and one or more Indian Tribes or Native Hawaiian organizations. The following types of information were used to reasonably trace the relationship: anthropological information, archeological information, geographical information, historical information, linguistics, oral tradition, and expert opinion.

Determinations

Pursuant to NAGPRA and its implementing regulations, and after consultation with the appropriate Indian Tribes and Native Hawaiian organizations, SAJH has determined that:

• The human remains described in this notice represent the physical remains of 12 individuals of Native American ancestry.

• There is a relationship of shared group identity that can be reasonably traced between the human remains described in this notice and the Jamestown S'Klallam Tribe; Lower Elwha Tribal Community; Lummi Tribe of the Lummi Reservation; Port Gamble S'Klallam Tribe; Samish Indian Nation; Stillaguamish Tribe of Indians of Washington; Swinomish Indian Tribal Community; and the Tulalip Tribes of Washington.

Requests for Repatriation

Written requests for repatriation of the human remains in this notice must be sent to the Responsible Official identified in ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains in this notice to a requestor may occur on or after July 3, 2023. If competing requests for repatriation are received, SAJH must determine the most appropriate requestor prior to repatriation. Requests for joint repatriation of the human remains are considered a single request and not competing requests. SAJH is responsible for sending a copy of this notice to the Indian Tribes and Native Hawaiian organizations identified in this notice.

Authority: Native American Graves Protection and Repatriation Act, 25 U.S.C. 3003, and the implementing regulations, 43 CFR 10.9, 10.10, and 10.14.

Dated: May 24, 2023.
Melanie O'Brien,
Manager, National NAGPRA Program.

[FR Doc. 2023-11697 Filed 5-31-23; 8:45 am]

BILLING CODE 4312-52-P